DEPARTMENT OF COMMERCE

International Trade Administration

[A-427-801, A-428-801, A-475-801]

Ball Bearings and Parts Thereof From France, Germany, and Italy: Final Results of Antidumping Administrative and Changed Circumstances Reviews

AGENCY: Import Administration, International Trade Administration, Department of Commerce.

SUMMARY: On April 21, 2011, the Department of Commerce (the Department) published the preliminary results of the administrative reviews of the antidumping duty orders on ball bearings and parts thereof from France, Germany, and Italy. The period of review is May 1, 2009, through April 30, 2010.

Based on our analysis of the comments received, we have made changes, including corrections of certain programming and other errors in the margin calculations. Therefore, the final results are different from the preliminary results for certain respondents. The final weighted-average dumping margins for the reviewed respondents are listed below in the section entitled “Final Results of the Reviews.” We have also determined that Schaeffler Technologies GmbH & Co. KG (Schaeffler Technologies) is the successor-in-interest to Schaeffler KG with respect to the order on ball bearings and parts thereof from Germany.

DATES: Effective Date: August 24, 2011.

FOR FURTHER INFORMATION CONTACT: Thomas Schauer, AD/CVD Operations, Office 5, Import Administration, International Trade Administration, U.S. Department of Commerce, 14th Street and Constitution Avenue, NW., Washington, DC 20230; telephone: (202) 482-0410.

SUPPLEMENTARY INFORMATION:

Background

On April 21, 2011, the Department published the preliminary results of the administrative reviews of the antidumping duty orders on ball bearings and parts thereof from France, Germany, and Italy. See Ball Bearings and Parts Thereof From France, Germany, Italy, Japan, and the United Kingdom: Preliminary Results of Antidumping Administrative and Changed-Circumstances Reviews, 76 FR 22372 (April 21, 2011) (Preliminary Results).¹

¹ The Department has revoked the antidumping duty orders on ball bearings and parts thereof from Japan and the United Kingdom and discontinued all administrative reviews of those orders. See Ball Bearings and Parts Thereof From Japan and the United Kingdom: Revocation of Antidumping Duty Orders, 76 FR 41761 (July 15, 2011).

We invited interested parties to comment on the Preliminary Results. We received case and rebuttal briefs from various parties to the proceedings. No hearing was requested for the administrative reviews.

The Department has conducted these administrative reviews in accordance with section 751 of the Tariff Act of 1930, as amended (the Act).

Scope of the Orders

The products covered by the orders are ball bearings and parts thereof. These products include all antifriction bearings that employ balls as the rolling element. Imports of these products are classified under the following categories: Antifriction balls, ball bearings with integral shafts, ball bearings (including radial ball bearings) and parts thereof, and housed or mounted ball bearing units and parts thereof.

Imports of these products are classified under the following Harmonized Tariff Schedule of the United States (HTSUS) subheadings: 3926.90.45, 4016.93.10, 4016.93.50, 6909.19.50.10, 8414.90.41.75, 8431.20.00, 8431.39.00.10, 8482.10.10, 8482.10.50, 8482.80.00, 8482.91.00, 8482.99.05, 8482.99.35, 8482.99.25.80, 8482.99.65.95, 8483.20.40, 8483.20.80, 8483.30.40, 8483.30.80, 8483.50.90, 8483.90.20, 8483.90.30, 8483.90.70, 8708.50.50, 8708.60.50, 8708.60.80, 8708.93.30, 8708.93.60.00, 8708.99.06, 8708.99.31.00, 8708.99.40.00, 8708.99.49.60, 8708.99.58, 8708.99.80.15, 8708.99.80.80, 8803.10.00, 8803.20.00, 8803.30.00, 8803.90.30, 8803.90.90, 8708.30.50.90, 8708.40.75.70, 8708.40.75.80, 8708.50.79.00, 8708.50.89.00, 8708.50.91.50, 8708.50.99.00, 8708.70.60.60, 8708.80.65.90, 8708.93.75.00, 8708.94.75, 8708.95.20.00, 8708.99.55.00, 8708.99.68, and 8708.99.81.80.

Although the HTSUS item numbers above are provided for convenience and customs purposes, the written descriptions of the scope of the orders remain dispositive.

The size or precision grade of a bearing does not influence whether the bearing is covered by one of the orders. The orders cover all the subject bearings and parts thereof (inner race, outer race, cage, rollers, balls, seals, shields, etc.) outlined above with certain limitations. With regard to finished parts, all such parts are included in the scope of the orders. For unfinished parts, such parts are included if they have been heat-treated or if heat treatment is not required to be performed on the part. Thus, the only unfinished parts that are not covered by the orders are those that will be subject to heat treatment after importation. The ultimate application of a bearing also does not influence whether the bearing is covered by the orders. Bearings designed for highly specialized applications are not excluded. Any of the subject bearings, regardless of whether they may ultimately be utilized in aircraft, automobiles, or other equipment, are within the scope of the orders.

For a list of scope determinations which pertain to the orders, see the “Memorandum to Laurie Parkhill” regarding scope determinations for the 2009/2010 reviews, dated April 14, 2011, which is on file in the Central Records Unit (CRU) of the main Commerce building, Room 7046, in the General Issues record (A-100-001).

Analysis of the Comments Received

All issues raised in the case briefs by parties to these administrative reviews of the antidumping duty orders on ball bearings and parts thereof are addressed in the “Issues and Decision Memorandum” (Decision Memorandum) from Gary Taverman, Acting Deputy Assistant Secretary for Antidumping and Countervailing Duty Operations, to Kim Glas, Deputy Assistant Secretary for Textiles and Apparel, dated concurrently with this notice, which is hereby adopted by this notice. A list of the issues which parties have raised and to which we have responded is in the Decision Memorandum and attached to this notice as an Appendix. The Decision Memorandum, which is a public document, is on file in the CRU of the main Commerce building, room 7046, and is accessible on the Web at http://ia.ita.doc.gov/frn/index.html. The paper copy and electronic version of the Decision Memorandum are identical in content.

Final Results of Changed Circumstances Review

In the Preliminary Results, we preliminarily determined that Schaeffler Technologies is the successor-in-interest to Schaeffler KG and invited interested parties to comment. We received no comments from interested parties. For the reasons we stated in the Preliminary Results and because we received no comments to the contrary from interested parties, we continue to determine that Schaeffler Technologies is the successor-in-interest to Schaeffler KG. Consequently, we will instruct U.S. Customs and Border Protection (CBP) to apply the cash-deposit rate in effect for Schaeffler KG to all entries of the subject merchandise from Schaeffler Technologies that were entered, or withdrawn from warehouse, for consumption on or after the date of publication of these final results of the changed-circumstances review.

Rates for Non-Selected Companies

Based on our analysis of the responses and our available resources, we selected certain companies for individual examination of their sales of the subject merchandise to the United States during the period of review as permitted under section 777A(c)(2) of the Act. For a detailed discussion on the selection of the respondents for individual examination, see Preliminary Results, 76 FR at 22373. For the final results, we have not changed the basis of the rate we applied to respondents not selected for individual examination.

Changes Since the Preliminary Results

Based on our analysis of comments received, we have made revisions that have changed the results for certain companies. We have corrected programming and other errors in the margins we included in the Preliminary Results, where applicable. A detailed discussion of each correction we made is in the company-specific analysis memoranda dated concurrently with this notice, which are on file in the CRU of the main Commerce building.

Sales Below Cost in the Home Market

Pursuant to section 773(b)(1) of the Act, the Department disregarded sales in the home market that failed the cost-of-production test for the following firms for these final results of reviews: France—SKF France S.A./SKF Aerospace France S.A.S. and SNR Roulements S.A./SNR Europe; Germany—Myonic GmbH and The Schaeffler Group/Schaeffler KG/Schaeffler Technologies GmbH; Italy—Schaeffler Italia S.r.l./WPB Water Pump Bearing GmbH & Co. KG/The Schaeffler Group and SKF Industries S.p.A./Somecat S.p.A./SKF RIV-SKF Officine di Villar Perosa S.p.A.

Final Results of the Reviews

We determine that the following percentage weighted-average dumping margins on ball bearings and parts thereof exist for the period May 1, 2009, through April 30, 2010:

Exporter/manufacturer | Dumping margin (percent)
France:
Alcatel Vacuum Technology | 5.47
Audi AG | 5.47
AVIAC | 66.42
Avio | 5.47
Bosch Rexroth SAS | 5.47
Caterpillar Group Services S.A. | 5.47
Caterpillar Materials Routiers S.A.S. | 5.47
Caterpillar S.A.R.L. | 5.47
Dassault Aviation | 5.47
Eurocopter SAS | 66.42
Groupe Intertechnique | 5.47
Kongskilde Limited | 5.47
Perkins Engines Company Limited | 5.47
SKF France S.A. and SKF Aerospace France S.A.S. | 5.21
SNECMA | 66.42
SNR Roulements S.A. and SNR Europe | 7.67
Technofan | 66.42
Volkswagon AG | 5.47
Volkswagen Zubehor GmbH | 5.47
Germany:
Audi AG | 6.25
BAUER Maschinen GmbH | 6.25
Bosch Rexroth AG | 6.25
BSH Bosch and Siemens Hausgerate GmbH | 6.25
Caterpillar S.A.R.L. | 6.25
Heidelberger Druckmaschinen AG | 6.25
Kongskilde Limited | 6.25
Myonic GmbH | 11.42
Robert Bosch GmbH | 6.25
Robert Bosch GmbH Power Tools and Hagglunds Drives | 6.25
The Schaeffler Group, Schaeffler KG, and Schaeffler Technologies GmbH | 3.66
SKF GmbH | 6.25
Volkswagon AG | 6.25
Volkswagen Zubehor GmbH | 6.25
W & H Dentalwerk Burmoos GmbH | 6.25
Italy:
Audi AG | 10.27
Bosch Rexroth S.p.A | 10.27
Caterpillar Overseas S.A.R.L. | 10.27
Caterpillar of Australia Pty. Ltd. | 10.27
Caterpillar Group Services S.A. | 10.27
Caterpillar Mexico, S.A. de C.V. | 10.27
Caterpillar Americas C.V. | 10.27
Eurocopter | 69.99
Hagglunds Drives S.r.l. | 10.27
Kongskilde Limited | 10.27
Perkin Engines Company Limited | 10.27
Schaeffler Italia S.r.l., WPB Water Pump Bearing GmbH & Co. KG, and The Schaeffler Group | 2.87
SKF Industries S.p.A., Somecat S.p.A., and SKF RIV-SKF Officine di Villar Perosa S.p.A. | 11.97
SNECMA | 69.99
Volkswagen AG | 10.27
Volkswagen Zubehor GmbH | 10.27

Assessment Rates

The Department shall determine, and CBP shall assess, antidumping duties on all appropriate entries. In accordance with 19 CFR 351.212(b)(1), we have calculated, whenever possible, an exporter/importer (or customer)-specific assessment rate or value for merchandise subject to these reviews as described below.

The Department clarified its “automatic assessment” regulation on May 6, 2003. This clarification will apply to entries of subject merchandise during the period of review produced by companies selected for individual examination in the reviews for which the reviewed companies did not know their merchandise was destined for the United States. In such instances, we will instruct CBP to liquidate unreviewed entries at the country-specific all-others rate if there is no rate for the intermediate company(ies) involved in the transaction. For a full discussion of this clarification, see Antidumping and Countervailing Duty Proceedings: Assessment of Antidumping Duties, 68 FR 23954 (May 6, 2003).

For the companies which were not selected for individual examination and for the companies to which we are applying adverse facts available, we will instruct CBP to apply the rates listed above to all entries of subject merchandise produced and/or exported by such firms.

We intend to issue liquidation instructions to CBP 15 days after publication of the final results of these reviews.

Export Price Sales

With respect to export price (EP) sales, for these final results, we divided the total dumping margins (calculated as the difference between normal value and EP) for each exporter's importer or customer by the total number of units the exporter sold to that importer or customer. We will direct CBP to assess the resulting per-unit dollar amount against each unit of merchandise in each of that importer's/customer's entries under the relevant order during the review period.

Constructed Export Price Sales

For constructed export price (CEP) sales, we divided the total dumping margins for the reviewed sales by the total entered value of those reviewed sales for each importer. We will direct CBP to assess the resulting assessment rate against the entered customs values for the subject merchandise on each of that importer's entries under the relevant order during the review period. See 19 CFR 351.212(b).

Cash-Deposit Requirements

To calculate the cash-deposit rate for each company, i.e., each exporter and/or manufacturer included in these reviews, we divided the total dumping margins for each company by the total net value of that company's sales of subject merchandise during the period of review subject to each order.

To derive a single cash-deposit rate for each company, we weight-averaged the EP and CEP deposit rates (using the total extended EP and CEP, respectively, as the weighting factors). To accomplish this when we sampled CEP sales (see Preliminary Results, 75 FR at 22375), we first calculated the total dumping margins for all CEP sales during the period of review by multiplying the sample CEP margins by the ratio of total days in the period of review to days in the sample weeks. We then calculated a total net value for all CEP sales during the period of review by multiplying the sample CEP total net value by the same ratio. Finally, we divided the combined total dumping margins for both EP and CEP sales by the combined total value of both EP and CEP sales to obtain the cash-deposit rate.

We will direct CBP to collect the resulting cash-deposit rate against the entered customs value of each of the exporter's entries of subject merchandise entered, or withdrawn from warehouse, for consumption on or after the date of publication of this notice. Entries of parts incorporated into finished bearings before sales to an unaffiliated customer in the United States will receive the respondent's cash-deposit rate applicable to the order.

Furthermore, the following cash-deposit requirements will be effective upon publication of this notice of final results of administrative reviews for all shipments of subject merchandise entered, or withdrawn from warehouse, for consumption on or after the date of publication, as provided by section 751(a)(1) of the Act: (1) The cash-deposit rates for the reviewed companies will be the rates shown above; (2) for previously reviewed or investigated companies not listed above, the cash-deposit rate will continue to be the company-specific rate published for the most recent period; (3) if the exporter is not a company covered in these reviews, a prior review, or the less-than-fair-value investigations but the manufacturer is, the cash-deposit rate will be the rate established for the most recent period for the manufacturer of the merchandise; (4) the cash-deposit rate for all other manufacturers or exporters will continue to be the all-others rate for the relevant order made effective by the final results of reviews published on July 26, 1993. See Final Results of Antidumping Duty Administrative Reviews and Revocation in Part of an Antidumping Duty Order, 58 FR 39729 (July 26, 1993). For ball bearings and parts thereof from Italy, see Antifriction Bearings (Other Than Tapered Roller Bearings) and Parts Thereof From France, et al.; Final Results of Antidumping Duty Administrative Reviews and Partial Termination of Administrative Reviews, 61 FR 66472, 66521 (December 17, 1996). These cash-deposit rates are the all-others rates from the relevant less-than-fair-value investigations. These cash-deposit requirements shall remain in effect until further notice.

Notifications

This notice also serves as a final reminder to importers of their responsibility under 19 CFR 351.402(f)(2) to file a certificate regarding the reimbursement of antidumping duties prior to liquidation of the relevant entries during this review period. Failure to comply with this requirement could result in the Department's presumption that reimbursement of antidumping duties occurred and the subsequent assessment of doubled antidumping duties.

This notice also serves as a reminder to parties subject to administrative protective order (APO) of their responsibility concerning the disposition of proprietary information disclosed under APO in accordance with 19 CFR 351.305(a)(3). Timely notification of the destruction of APO materials or conversion to judicial protective order is hereby requested. Failure to comply with the regulations and the terms of an APO is a sanctionable violation.

These final results of administrative reviews and final results of changed-circumstances review are issued and published in accordance with sections 751(a)(1), 751(b)(1), and 777(i)(1) of the Act.

Dated: August 18, 2011.
Kim Glas,
Deputy Assistant Secretary for Textiles and Apparel.

Appendix

1. Zeroing of Negative Margins

2. 15-Day Issuance of Liquidation Instructions

3. Application of Adverse Facts Available

4. Selling, General, and Administrative Expenses

5. Treatment of Duty Drawback

6. Calculation of Financial Expenses

7. Capping Interest Revenue

8. Sample Sales

9. Exclusion of Certain Resales

10. Clerical Errors

[FR Doc. 2011-21669 Filed 8-23-11; 8:45 am]

BILLING CODE 3510-DS-P